DEPARTMENT OF COMMERCE

National Oceanic and Atmospheric Administration

RIN 0648-XC952

New England Fishery Management Council; Public Meeting

AGENCY: National Marine Fisheries Service (NMFS), National Oceanic and Atmospheric Administration (NOAA), Commerce.

ACTION: Notice of a public meeting.

SUMMARY: The New England Fishery Management Council (Council) will hold a one-day meeting on November 20, 2013 to consider actions affecting New England fisheries in the exclusive economic zone (EEZ).

DATES: The meeting will be held on Wednesday, November 20, 2013 beginning at 8:30 a.m.

ADDRESSES: The meeting will be held at the Newport Marriott Hotel, 25 America's Cup Avenue, Newport, Rhode Island 02840; Telephone 401-849-1000 or online at http://www.marriott.com/hotels/travel/pvdlw-newport-marriott/. Requests for special accommodations should be addressed to the New England Fishery Management Council, 50 Water Street, Mill 2, Newburyport, MA 01950; telephone (978) 465-0492.

FOR FURTHER INFORMATION CONTACT: Thomas A. Nies, Executive Director, New England Fishery Management Council, (978) 465-0492.

SUPPLEMENTARY INFORMATION:

Wednesday, November 20, 2013

The Council will begin its meeting with introductions and announcements followed by reports from the NEFMC Chairman and Executive Director, NOAA Fisheries Regional Administrator, the Northeast Fisheries Science Center and Mid-Atlantic Fishery Management Council liaisons, as well as NOAA General Counsel, and representatives of the Atlantic States Marine Fisheries Commission, U.S. Coast Guard, and NOAA Enforcement. The Council then intends to initiate a framework adjustment to the Fishery Management Plan (FMP) for the Northeast Skate Complex. The action would set fishery specifications for 2014-15 and also remove the unclassified wing fishery VTR code. A discussion postponed from the September Council meeting will be held to consider whether to request a NOAA Fisheries emergency action to ban midwater trawling based on recent concerns about haddock bycatch.

After a noon lunch break, the Council will review and discuss a report and recommendations from its ABC Control Rule Working Group. Specific recommendations from the group will be further considered by the Council during the discussion of 2014 management priorities later in the meeting. There will be an update about Amendment 18 to the Northeast Multispecies FMP, an action under development that addresses fleet diversity, enhances sector management, promotes resilience and stability of fishing businesses and prevents excessive shares in the New England groundfish fishery. The day will conclude with a discussion about and approval of NEFMC management priorities for 2014.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: October 29, 2013.
Tracey L. Thompson,
Acting Deputy Director, Office of Sustainable Fisheries, National Marine Fisheries Service.

[FR Doc. 2013-26084 Filed 10-31-13; 8:45 am]

BILLING CODE 3510-22-P